DEPARTMENT OF HOUSING AND URBAN DEVELOPMENT

[Docket No. FR-4903-N-7]

Notice of Submission of Proposed Information Collection to OMB: HUD Initiative for the Removal Regulatory Barriers

AGENCY: Office of the Chief Information Officer, HUD.

ACTION: Notice.

SUMMARY: The proposed information collection requirement described below has been submitted to the Office of Management and Budget (OMB) for review, as required by the Paperwork Reduction Act. The Department is soliciting public comments on the subject proposal.

This information collection is in support of HUD's America's Affordable Communities Initiative focusing on regulatory barriers that impede the production of affordable housing.

DATES: Comments Due Date: March 25, 2004.

ADDRESSES: Interested persons are invited to submit comments regarding this proposal. Comments should refer to the proposal by name and should be sent to: HUD Desk Officer, Office of Management and Budget, Room 10235, New Executive Office Building, Washington, DC 20503; Fax number (202) 395-6974; e-mail Melanie_Kadlic@omb.eop.gov.

FOR FURTHER INFORMATION CONTACT: Wayne Eddins, Reports Management Officer, AYO, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the contact information of an agency official familiar with the proposal and the OMB Desk Officer for the Department.

This Notice also lists the following information:

Title of Proposal: HUD Initiative for the Removal Regulatory Barriers.

OMB Approval Number: 2510-pending.

Form Numbers: To be assigned.

Description of the Need for the Information and Its Proposed Use: This information collection is in support of HUD's America's Affordable Communities Initiative focusing on regulatory barriers that impede the production of affordable housing. It is intended to promote efforts by State and local governments, and to provide for incentives, to remove regulatory barriers to affordable housing.

Respondents: Not-for-profit institutions, State, Local or Tribal Government, and Business or other for-profit.

Frequency of Submission: Once.

| Number of respondents | Annual responses | × | Hours per response | = | Burden hours
Reporting Burden: | 8,000 | 1 |  | 1.5 |  | 12,000

Total Estimated Burden Hours: 12,000.

Status: Proposed new information collection.

Authority: Section 3507 of the Paperwork Reduction Act of 1995, 44 U.S.C. 35, as amended.

Dated: February 13, 2004.
Wayne Eddins,
Departmental Reports Management Officer, Office of the Chief Information Officer.

[FR Doc. 04-3911 Filed 2-23-04; 8:45 am]

BILLING CODE 4210-72-P